DEPARTMENT OF EDUCATION

[Docket ID ED-2015-OESE-0047]

Final Waiver and Extension of the Project Period; Territories and Freely Associated States Education Grant Program

[Catalog of Federal Domestic Assistance (CFDA) Number: 84.256A.]

AGENCY: Office of Elementary and Secondary Education, Department of Education.

ACTION: Final waiver and extension of the project period.

SUMMARY: For the 36-month projects funded in fiscal year (FY) 2012 under the Territories and Freely Associated States Education Grant (T&FASEG) program, the Secretary waives the requirement that prohibits the extension of project periods involving the obligation of additional Federal funds. The Secretary also extends the project period of these grants for up to an additional 24 months. The waiver and extension enables the five current T&FASEG grantees to continue to receive Federal funding annually for project periods through FY 2016 and possibly through FY 2017. In addition, during this period, the Pacific Regional Educational Laboratory (Pacific REL) will continue to receive funds set aside for technical assistance under the T&FASEG program. Further, the waiver and extension mean that we will not announce a new competition or make new awards in FY 2015.

DATES: The waiver and extension of the project period are effective July 27, 2015.

FOR FURTHER INFORMATION CONTACT: Collette Fisher. Telephone: (202) 401-0039 or by email at: collette.fisher@ed.gov.

If you use a telecommunications device for the deaf or a text telephone, call the Federal Relay Service, toll free, at 1-800-877-8339.

SUPPLEMENTARY INFORMATION: On April 23, 2015, we published a notice in the Federal Register (80 FR 22729) proposing an extension of the project period for up to an additional 24 months and a waiver of the requirement in 34 CFR 75.261(c)(2) that prohibits the extension of project periods involving the obligation of additional Federal funds in order to—

(1) Enable the five current T&FASEG grantees to continue to receive Federal funding annually for project periods through FY 2016 and possibly through FY 2017; and

(2) Allow the Pacific REL to continue to receive funds set aside for technical assistance under the T&FASEG program.

There are no substantive differences between the proposed waiver and extension and the final waiver and extension.

Public Comment

In response to our invitation in the notice of proposed waiver and extension of the project period, we received two comments.

Analysis of Comments and Changes: An analysis of the comments received in response to the proposed waiver and extension of the project period follows.

Comments: The comments expressed support for the proposed waiver and extension of the project period. The commenters supported a continuation of service that allows for sustaining the work of the grant projects and building upon current services that have improved schools and local educational agency (LEA) infrastructure.

Discussion: We appreciate the commenters' support and note the importance of the assistance provided by the T&FASEG program to the five current grantees in the U.S. Territories and the Republic of Palau for teacher training, curriculum development, and general school improvement and reform. We agree that it would be more effective to maintain the continuity of current projects without disruption than to hold a new competition at this time.

Changes: None.

Background

The T&FASEG program is authorized under section 1121(b) of the Elementary and Secondary Education Act of 1965, as amended (ESEA). Under this program, the Secretary is authorized to award grants, on a competitive basis, to LEAs in the U.S. Territories—American Samoa, the Commonwealth of the Northern Mariana Islands, Guam, and the U.S. Virgin Islands—and one eligible Freely Associated State, the Republic of Palau. Through these grants, the T&FASEG program supports projects to raise student achievement through direct educational services.

T&FASEG program grant funds may be used for activities authorized under the ESEA, including teacher training, curriculum development, development or acquisition of instructional materials, and general school improvement and reform. More specifically, under the T&FASEG program, grant funds may be used to—

(a) Conduct activities consistent with the programs described in the ESEA, including the types of activities authorized under—

(1) Title I—Improving the Academic Achievement of the Disadvantaged;

(2) Title II—Preparing, Training, and Recruiting Highly-Quality Teachers and Principals;

(3) Title III—Language Instruction for Limited English Proficient and Immigrant Students;

(4) Title IV—21st Century Schools; and

(5) Title V—Promoting Informed Parental Choice and Innovative Programs; and

(b) Provide direct educational services that assist all students with meeting challenging State academic content standards.

In addition, section 1121(b)(3)(d) of the ESEA authorizes the Secretary to provide up to five percent of the amount reserved for T&FASEG program grants to pay the administrative costs of the Pacific REL, which provides technical assistance to grant recipients regarding the administration and implementation of their projects.

On April 30, 2012, we published in the Federal Register (77 FR 25452) a notice inviting applications for new awards under the FY 2012 T&FASEG program competition (2012 Notice Inviting Applications).

In FY 2012, the Department made three-year awards to five T&FASEG projects. The project period for these T&FASEG program grants is currently scheduled to end on September 30, 2015.

We have concluded that it is not in the public interest to incur a disruption in the services associated with holding a new T&FASEG competition in FY 2015. Rather, it will be more effective to maintain the continuity of current projects by allowing grantees the opportunity to continue to provide high-quality direct educational services in support of the Secretary's priorities to students and teachers in the U.S. Territories and the Republic of Palau without interruption. Consistent with the scope, goals, and objectives of the current projects, grantees will continue to support initiatives on standards and assessments, effective teachers and leaders, and projects that are designed to improve student achievement or teacher effectiveness through the use of high-quality digital tools or materials. Such initiatives and projects include preparing teachers to use technology to improve instruction, as well as developing, implementing, and evaluating digital tools and materials. Moreover, we believe that a longer project period will better enable grantees to carry out project objectives and anticipate providing for longer project periods in future competitions. Additionally, given that all eligible applicants currently receive grant awards under the T&FASEG program, this waiver and extension will have limited impact on those entities.

For these reasons, for the five current T&FASEG grant recipients, the Secretary waives the requirement in 34 CFR 75.261(c)(2), which prohibits the extension of project periods involving the obligation of additional Federal funds, and extends the project period for these grant recipients for up to 24 months. This will allow the grantees to continue to receive Federal funding annually for project periods through FY 2016 and possibly FY 2017.

We will fund the extended project period by using funds Congress appropriates under the current statutory authority, including FY 2014 funds available for awards made in FY 2015 and, if the grants are extended for two years, FY 2015 funds available for awards made in FY 2016.

Under this waiver and extension of the project period—

(1) Current grantees will be authorized to receive T&FASEG continuation awards annually for up to two years through FY 2017;

(2) We will not announce a new T&FASEG competition or make new T&FASEG grant awards in FY 2015;

(3) During the extension period, any activities carried out would be consistent with, or a logical extension of, the scope, goals, and objectives of each grantee's approved application from the 2012 T&FASEG program competition;

(4) The requirements established in the program regulations and the 2012 Notice Inviting Applications will continue to apply to each grantee that receives a continuation award; and

(5) All requirements applicable to continuation awards for current T&FASEG grantees and the requirements in 34 CFR 75.253 will apply to any continuation awards received by current T&FASEG grantees.

We will make decisions regarding annual continuation awards based on grantee performance as demonstrated through program narratives, budgets and budget narratives, and performance reports, and based on the regulations in 34 CFR 75.253. We intend to award continuation grants based on information provided to us annually by each grantee, indicating that it is making substantial progress performing its T&FASEG program activities based on substantial performance and progress.

Regulatory Flexibility Act Certification

The Secretary certifies that the waiver and extension and the activities required to support additional years of funding will not have a significant economic impact on a substantial number of small entities. The only entities that will be affected by this waiver and extension are the five current T&FASEG program grantees receiving Federal funds. There are no other potential applicants.

The Secretary certifies that this waiver and extension will not have a significant economic impact on these entities because the extension of an existing project imposes minimal compliance costs, and the activities required to support the additional years of funding will not impose additional regulatory burdens or require unnecessary Federal supervision.

Paperwork Reduction Act of 1995

This waiver and extension does not contain any information collection requirements.

Intergovernmental Review

This program is subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Delegation of Authority: The Secretary of Education has delegated authority to Ann Whalen, Senior Advisor to the Secretary, to perform the functions and duties of the Assistant Secretary for the Office of Elementary and Secondary Education.

Program Authority: 20 U.S.C. 6331.

Dated: July 22, 2015.
Ann Whalen,
Senior Advisor to the Secretary.

[FR Doc. 2015-18414 Filed 7-24-15; 8:45 am]

BILLING CODE 4000-01-P